INTERNATIONAL TRADE COMMISSION

[Inv. No. 337-TA-501]

In the Matter of Certain Encapsulated Integrated Circuit Devices and Products Containing Same; Notice of Decision to Review in its Entirety a Final Initial Determination Finding No Violation of Section 337; Schedule for Filing Written Submissions; Extension of Target Date

AGENCY: U.S. International Trade Commission.

ACTION: Notice.

SUMMARY: Notice is hereby given that the U.S. International Trade Commission has determined (1) to review in its entirety a final initial determination (“ID”) issued by the presiding administrative law judge (“ALJ”) on November 18, 2004, finding no violation of section 337 of the Tariff Act of 1930, 19 U.S.C. 1337, in the above-captioned investigation; and (2) to extend the target date for completion in this investigation by thirty-seven (37) days, i.e., until March 31, 2005.

FOR FURTHER INFORMATION CONTACT: Michael Liberman, Esq., Office of the General Counsel, U.S. International Trade Commission, 500 E Street, SW., Washington, DC 20436, telephone (202) 205-3115. Copies of the public version of the IDs and all nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS) at http://edis.usitc.gov.

SUPPLEMENTARY INFORMATION: On December 19, 2003, the Commission instituted an investigation under section 337 of the Tariff Act of 1930, 19 U.S.C. 1337, based on a complaint filed by Amkor Technology, Inc. alleging a violation of section 337 in the importation, sale for importation, and sale within the United States after importation of certain encapsulated integrated circuit devices and products containing same in connection with claims 1-4, 7, 17, 18 and 20-23 of U.S. Patent No. 6,433,277 (“the ‘277 patent”); claims 1-4, 7 and 8 of U.S. Patent No. 6,630,728 (“the ‘728 patent”); and claims 1, 2, 13 and 14 of U.S. Patent No. 6,455,356 (“the ‘356 patent”). 68 FR 70836 (December 19, 2003). The complainant named Carsem (M) Sdn Bhd; Carsem Semiconductor Sdn Bhd; and Carsem, Inc. as respondents.

The evidentiary hearing in this investigation was held from July 6 through July 30, 2004, and August 9 through August 11, 2004. On November 18, 2004, the presiding ALJ issued a final ID finding no violation of section 337. All of the parties to the investigation, including the Commission investigative attorney filed timely petitions for review of various portions of the final ID. Respondents designated their petition to be contingent upon the granting of any other petition for review or upon the Commission's reviewing the ALJ's ID on its own motion pursuant to 19 CFR 210.44. All parties filed timely responses to the petitions for review.

Having examined the record in this investigation, including the ALJ's final ID, the petitions for review, and the responses thereto, the Commission has determined to review the ID in its entirety. At this time the Commission requests briefing, based on the evidentiary record, that concerns only the issue of claim interpretation. Further briefing may be requested at a later date. The Commission is particularly interested in receiving answers to the following questions:

1. Does the specification of the ‘277 patent satisfy the “written description” requirement of 35 U.S.C.112, ¶ 1 with respect to the claim limitations “fully around a circumference of the die pad” found in claims 2, 3, and 4, and “fully around the die pad” found in claims 21, 22, and 23?

2. How should the following claim limitations be construed:

(a) “Fully around a circumference of the die pad” (‘277 patent, claims 2, 3, and 4);

(b) “fully around the die pad” (‘277 patent, claims 21, 22, and 23);

(c) “surrounding the second surface” (‘356 patent, claims 1 and 13);

(d) “the side surface of the die pad includes a means around the circumference of the die pad for vertically locking,” (‘277 patent, claim 17)?

In particular, please address whether the claim limitations “fully around a circumference of the die pad” and “fully around the die pad” are indefinite.

3. How should the following claim terms of the ‘356 patent be construed:

(a) “Horizontal peripheral third surface” (claims 1, 13);

(b) “vertical outer peripheral surface” (claims 1, 13); and

(c) “horizontal third surface” (claim 1)?

4. How should the following claim limitations be construed:

(a) “The second surface of the die pad is exposed in the plane of the first exterior surface of the package body” (‘277 patent, claim 18); and

(b) “the second surface of each lead is exposed in a horizontal plane of a first exterior surface of the package” (‘356 patent, claims 1, 13)?

In particular, please address how plating affects whether “the second surface of the die pad” in claim 18 of the ‘277 patent and “the second surface of each lead” in claims 1 and 13 of the ‘356 patent are “exposed.”

5. Do the preambles of claims 1 and 3 of the ‘728 patent constitute claim limitations? In particular, please address how the intrinsic evidence supports your position in light of the teachings of the Court of Appeals for the Federal Circuit.

Written Submissions: Submissions should be concise and thoroughly referenced to the record in this investigation. The written submissions must be filed no later than close of business on February 14, 2005. Reply submissions must be filed no later than the close of business on February 22, 2005. No further submissions will be permitted unless otherwise ordered by the Commission.

Persons filing written submissions must file with the Office of the Secretary the original document and 14 true copies thereof on or before the deadlines stated above. Any person desiring to submit a document (or portion thereof) to the Commission in confidence must request confidential treatment unless the information has already been granted such treatment during the proceedings. All such requests should be directed to the Secretary of the Commission and must include a full statement of the reasons why the Commission should grant such treatment. See section 201.6 of the Commission's Rules of Practice and Procedure, 19 CFR § 201.6. Documents for which confidential treatment by the Commission is sought will be treated accordingly. All nonconfidential written submissions will be available for public inspection at the Office of the Secretary.

The authority for the Commission's determination is contained in section 337 of the Tariff Act of 1930, as amended (19 U.S.C. 1337), and in sections 210.42-210.45 and 210.51 of the Commission's Rules of Practice and Procedure (19 CFR §§ 210.42-210.45 and 210.51).

By order of the Commission.
Issued: February 1, 2005.
Marilyn R. Abbott,
Secretary to the Commission.

[FR Doc. 05-2261 Filed 2-4-05; 8:45 am]

BILLING CODE 7020-02-P